POSTAL REGULATORY COMMISSION

39 CFR Part 3020

[Docket Nos. MC2010-21 and CP2010-36]

Update to Product Lists

AGENCY: Postal Regulatory Commission.

ACTION: Final rule.

SUMMARY: The Commission is updating the product lists. This action reflects a publication policy adopted by Commission order. The referenced policy assumes periodic updates. The updates are identified in the body of this document. The product lists, which is republished in its entirety, includes these updates.

DATES: Effective Date: February 3, 2016.

Applicability Dates: August 4, 2015, Competitive International Merchandise Return Service Agreements with Foreign Postal Operators (MC2015-68 and CP2015-99); September 29, 2015, Priority Mail Contract 144 (MC2015-84 and CP2015-140); September 29, 2015, Parcel Select Contract 10 (MC2015-85 and CP2015-141); September 29, 2015, Priority Mail Contract 143 (MC2015-83 and CP2015-139); September 29, 2015, Priority Mail Contract 142 (MC2015-82 and CP2015-138); October 16, 2015, Priority Mail Express Contract 28 (MC2016-2 and CP2016-2); October 16, 2015, Priority Mail Contract 145 (MC2016-1 and CP2016-1); October 16, 2015, Priority Mail Contract 146 (MC2016-3 and CP2016-3); October 16, 2015, Priority Mail Contract 147 (MC2016-4 and CP2016-4); October 23, 2015, Global Expedited Package Services Contracts—Non-Published Rates 8 (MC2016-5 and CP2016-5); October 23, 2015, Priority Mail Contract 148 (MC2016-6 and CP2016-6); November 2, 2015, Priority Mail Contract 149 (MC2016-8 and CP2016-10); November 2, 2015, Priority Mail Express, Priority Mail & First-Class Package Service Contract 5 (MC2016-9 and CP2016-11); November 3, 2015, Priority Mail Contract 150 (MC2016-11 and CP2016-12); November 5, 2015, Priority Mail Contract 151 (MC2016-12 and CP2016-14); November 5, 2015, Priority Mail Contract 152 (MC2016-13 and CP2016-15); November 17, 2015, Priority Mail Express & Priority Mail Contract 21 (MC2016-14 and CP2016-17); December 2, 2015, Priority Mail Contract 153 (MC2016-17 and CP2016-23); December 2, 2015, Priority Mail Express Contract 29 (MC2016-16 and CP2016-22); December 4, 2015, Priority Mail Express, Priority Mail & First-Class Package Service Contract 6 (MC2016-21 and CP2016-27); December 4, 2015, Priority Mail Contract 154 (MC2016-18 and CP2016-24); December 4, 2015, Priority Mail Contract 155 (MC2016-19 and CP2016-25); December 7, 2015, Priority Mail Express & Priority Mail Contract 22 (MC2016-20 and CP2016-26); December 15, 2015, Priority Mail Express & Priority Mail Contract 23 (MC2016-26 and CP2016-32); December 15, 2015, Priority Mail Contract 156 (MC2016-22 and CP2016-28); December 15, 2015, Priority Mail Contract 158 (MC2016-24 and CP2016-30); December 15, 2015, Priority Mail Contract 157 (MC2016-23 and CP2016-29); December 15, 2005, Priority Mail Contract 159 (MC2016-25 and CP2016-31); December 17, 2015, Parcel Select Contract 11 (MC2016-28 and CP2016-34); December 17, 2015, Priority Mail Express & Priority Mail Contract 24 (MC2016-27 and CP2016-33); December 17, 2015, Priority Mail Contract 160 (MC2016-29 and CP2016-35); December 21, 2015, Priority Mail Contract 161 (MC2016-30 and CP2016-36); December 21, 2015, Priority Mail Express Contract 30 (MC2016-32 and CP2016-38); December 21, 2015, Priority Mail Contract 162 (MC2016-31 and CP2016-37); December 22, 2015, First-Class Package Service Contract 38 (MC2016-33 and CP2016-39); December 22, 2015, Priority Mail & First-Class Package Service Contract 8 (MC2016-34 and CP2016-40); December 22, 2015, Priority Mail Contract 163 (MC2016-35 and CP2016-41); December 22, 2015, Priority Mail Contract 164 (MC2016-36 and CP2016-42); December 24, 2015, First-Class Package Service Contract 39 (MC2016-38 and CP2016-47); December 24, 2015, Parcel Select Contract 12 (MC2016-37 and CP2016-46); December 30, 2015, Priority Mail & First-Class Package Service Contract 9 (MC2016-44 and CP2016-59); December 30, 2015, Priority Mail Express & Priority Mail Contract 25 (MC2016-45 and CP2016-60); December 30, 2015, Global Expedited Package Services Contracts—Non-Published Rates 9 (MC2016-46 and CP2016-61); November 13, 2015, Competitive Products Price Changes Rates of General Applicability (CP2016-9).

FOR FURTHER INFORMATION CONTACT: David A. Trissell, General Counsel, at 202-789-6800.

SUPPLEMENTARY INFORMATION: This document identifies updates to the product lists, which appear as 39 CFR Appendix A to Subpart A of Part 3020—Mail Classification Schedule. Publication of the updated product lists in the Federal Register is addressed in the Postal Accountability and Enhancement Act (PAEA) of 2006.

Authorization. The Commission process for periodic publication of updates was established in Docket Nos. MC2010-21 and CP2010-36, Order No. 445, April 22, 2010, at 8.

Changes. The product lists are being updated by publishing a replacement in its entirety of 39 CFR Appendix A to Subpart A of Part 3020—Mail Classification Schedule. The following products are being added, removed, revised, or moved within the product lists:

1. Competitive International Merchandise Return Service Agreements with Foreign Postal Operators (MC2015-68 and CP2015-99) (Order No. 2639), added August 4, 2015.

2. Priority Mail Contract 144 (MC2015-84 and CP2015-140) (Order No. 2734), added September 29, 2015.

3. Parcel Select Contract 10 (MC2015-85 and CP2015-141) (Order No. 2735), added September 29, 2015.

4. Priority Mail Contract 143 (MC2015-83 and CP2015-139) (Order No. 2737), added September 29, 2015.

5. Priority Mail Contract 142 (MC2015-82 and CP2015-138) (Order No. 2738), added September 29, 2015.

6. Priority Mail Express Contract 28 (MC2016-2 and CP2016-2) (Order No. 2761), added October 16, 2015.

7. Priority Mail Contract 145 (MC2016-1 and CP2016-1) (Order No. 2762), added October 16, 2015.

8. Priority Mail Contract 146 (MC2016-3 and CP2016-3) (Order No. 2763), added October 16, 2015.

9. Priority Mail Contract 147 (MC2016-4 and CP2016-4) (Order No. 2764), added October 16, 2015.

10. Global Expedited Package Services Contracts—Non-Published Rates 8 (MC2016-5 and CP2016-5) (Order No. 2774), added October 23, 2015.

11. Priority Mail Contract 148 (MC2016-6 and CP2016-6) (Order No. 2777), added October 23, 2015.

12. Priority Mail Contract 149 (MC2016-8 and CP2016-10) (Order No. 2794), added November 2, 2015.

13. Priority Mail Express, Priority Mail & First-Class Package Service Contract 5 (MC2016-9 and CP2016-11) (Order No. 2796), added November 2, 2015.

14. Priority Mail Contract 150 (MC2016-11 and CP2016-12) (Order No. 2799), added November 3, 2015.

15. Priority Mail Contract 151 (MC2016-12 and CP2016-14) (Order No. 2802), added November 5, 2015.

16. Priority Mail Contract 152 (MC2016-13 and CP2016-15) (Order No. 2803), added November 5, 2015.

17. Priority Mail Express & Priority Mail Contract 21 (MC2016-14 and CP2016-17) (Order No. 2822), added November 17, 2015.

18. Priority Mail Contract 153 (MC2016-17 and CP2016-23) (Order No. 2846), added December 2, 2015.

19. Priority Mail Express Contract 29 (MC2016-16 and CP2016-22) (Order No. 2847), added December 2, 2015.

20. Priority Mail Express, Priority Mail & First-Class Package Service Contract 6 (MC2016-21 and CP2016-27) (Order No. 2848), added December 4, 2015.

21. Priority Mail Contract 154 (MC2016-18 and CP2016-24) (Order No. 2849), added December 4, 2015.

22. Priority Mail Contract 155 (MC2016-19 and CP2016-25) (Order No. 2851), added December 4, 2015.

23. Priority Mail Express & Priority Mail Contract 22 (MC2016-20 and CP2016-26) (Order No. 2852), added December 7, 2015.

24. Priority Mail Express & Priority Mail Contract 23 (MC2016-26 and CP2016-32) (Order No. 2873), added December 15, 2015.

25. Priority Mail Contract 156 (MC2016-22 and CP2016-28) (Order No. 2875), added December 15, 2015.

26. Priority Mail Contract 158 (MC2016-24 and CP2016-30) (Order No. 2876), added December 15, 2015.

27. Priority Mail Contract 157 (MC2016-23 and CP2016-29) (Order No. 2878), added December 15, 2015.

28. Priority Mail Contract 159 (MC2016-25 and CP2016-31) (Order No. 2879), added December 15, 2015.

29. Parcel Select Contract 11 (MC2016-28 and CP2016-34) (Order No. 2883), added December 17, 2015.

30. Priority Mail Express & Priority Mail Contract 24 (MC2016-27 and CP2016-33) (Order No. 2890), added December 17, 2015.

31. Priority Mail Contract 160 (MC2016-29 and CP2016-35) (Order No. 2891), added December 17, 2015.

32. Priority Mail Contract 161 (MC2016-30 and CP2016-36) (Order No. 2902), added December 21, 2015.

33. Priority Mail Express Contract 30 (MC2016-32 and CP2016-38) (Order No. 2906), added December 21, 2015.

34. Priority Mail Contract 162 (MC2016-31 and CP2016-37) (Order No. 2907), added December 21, 2015.

35. First-Class Package Service Contract 38 (MC2016-33 and CP2016-39) (Order No. 2910), added December 22, 2015.

36. Priority Mail & First-Class Package Service Contract 8 (MC2016-34 and CP2016-40) (Order No. 2911), added December 22, 2015.

37. Priority Mail Contract 163 (MC2016-35 and CP2016-41) (Order No. 2912), added December 22, 2015.

38. Priority Mail Contract 164 (MC2016-36 and CP2016-42) (Order No. 2913), added December 22, 2015.

39. First-Class Package Service Contract 39 (MC2016-38 and CP2016-47) (Order No. 2926), added December 24, 2015.

40. Parcel Select Contract 12 (MC2016-37 and CP2016-46) (Order No. 2927), added December 24, 2015.

41. Priority Mail & First-Class Package Service Contract 9 (MC2016-44 and CP2016-59) (Order No. 2965), added December 30, 2015.

42. Priority Mail Express & Priority Mail Contract 25 (MC2016-45 and CP2016-60) (Order No. 2966), added December 30, 2015.

43. Global Expedited Package Services Contracts—Non-Published Rates 9 (MC2016-46 and CP2016-61) (Order No. 2967), added December 30, 2015.

44. Competitive Products Price Changes Rates of General Applicability (CP2016-9) (Order No. 2814), changed Standard Post to Retail Ground, November 13, 2015.

The following negotiated service agreements have expired and are being deleted from the Mail Classification Schedule:

1. Priority Mail Contract 40 (MC2012-38 and CP2012-46) (Order No. 1444).

2. Priority Mail Contract 42 (MC2012-47 and CP2012-57) (Order No. 1475).

3. Priority Mail Contract 43 (MC2012-48 and CP2012-58) (Order No. 1476).

4. Priority Mail Contract 45 (MC2013-4 and CP2013-4) (Order No. 1518).

5. Priority Mail Contract 46 (MC2013-6 and CP2013-6) (Order No. 1524).

6. Priority Mail Contract 47 (MC2013-7 and CP2013-7) (Order No. 1525).

7. Priority Mail Express & Priority Mail Contract 9 (MC2012-29 and CP2012-38) (Order No. 1397).

8. Parcel Select Contract 3 (MC2012-32 and CP2012-40) (Order No. 1414).

9. Parcel Select Contract 4 (MC2012-33 and CP2012-41) (Order No. 1415).

10. Parcel Select Contract 6 (MC2013-13 and CP2013-13) (Order No. 1538).

11. First-Class Package Service Contract 16 (MC2012-49 and CP2012-61) (Order No. 1494).

12. First-Class Package Service Contract 17 (MC2012-50 and CP2012-62) (Order No. 1495).

13. First-Class Package Service Contract 18 (MC2012-51 and CP2012-63) (Order No. 1496).

14. First-Class Package Service Contract 19 (MC2012-52 and CP2012-64) (Order No. 1497).

15. First-Class Package Service Contract 20 (MC2012-53 and CP2012-65) (Order No. 1498).

16. First-Class Package Service Contract 21 (MC2013-8 and CP2013-8) (Order No. 1526).

17. First-Class Package Service Contract 22 (MC2013-9 and CP2013-9) (Order No. 1527).

18. First-Class Package Service Contract 23 (MC2013-10 and CP2013-10) (Order No. 1528).

19. First-Class Package Service Contract 24 (MC2013-11 and CP2013-11) (Order No. 1529).

20. First-Class Package Service Contract 25 (MC2013-12 and CP2013-12) (Order No. 1537).

21. First-Class Package Service Contract 26 (MC2013-15 and CP2013-14) (Order No. 1547).

22. First-Class Package Service Contract 27 (MC2013-17 and CP2013-16) (Order No. 1558).

23. First-Class Package Service Contract 28 (MC2013-18 and CP2013-17) (Order No. 1559).

24. First-Class Package Service Contract 29 (MC2013-19 and CP2013-18) (Order No. 1560).

25. First-Class Package Service Contract 30 (MC2013-20 and CP2013-19) (Order No. 1561).

26. First-Class Package Service Contract 31 (MC2013-21 and CP2013-29) (Order No. 1603).

27. First-Class Package Service Contract 32 (MC2013-22 and CP2013-30) (Order No. 1604).

28. First-Class Package Service Contract 33 (MC2013-23 and CP2013-31) (Order No. 1606).

29. First-Class Package Service Contract 34 (MC2013-24 and CP2013-32) (Order No. 1605).

30. Priority Mail Express, Priority Mail & First-Class Package Service Contract 1 (MC2012-46 and CP2012-55) (Order No. 1474).

31. Priority Mail & First-Class Package Service Contract 1 (MC2013-5 and CP2013-5) (Order No. 1519).

32. Global Direct Contracts 1 (MC2010-17 and CP2010-18) (Order No. 386).

33. Valassis NSA (MC2012-14 and R2012-8) (Order No. 1448).

34. Market Test of Experimental Product—Metro Post (MT2013-1) (Order No. 2243).

Updated product lists. The referenced changes to the product lists are incorporated into 39 CFR Appendix A to Subpart A of Part 3020—Mail Classification Schedule.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise Appendix A to Subpart A of Part 3020—Mail Classification Schedule to read as follows:

Appendix A to Subpart A of Part 3020—Mail Classification Schedule

(An asterisk (*) indicates an organizational class or group, not a Postal Service product.)

Part A—Market Dominant Products

1000 Market Dominant Product List

First-Class Mail*

Single-Piece Letters/Postcards

Presorted Letters/Postcards

Flats

Parcels

Outbound Single-Piece First-Class Mail International

Inbound Letter Post

Standard Mail (Commercial and Nonprofit)*

High Density and Saturation Letters

High Density and Saturation Flats/Parcels

Carrier Route

Letters

Flats

Parcels

Every Door Direct Mail—Retail

Periodicals*

In-County Periodicals

Outside County Periodicals

Package Services*

Alaska Bypass Service

Bound Printed Matter Flats

Bound Printed Matter Parcels

Media Mail/Library Mail

Special Services*

Ancillary Services

International Ancillary Services

Address Management Services

Caller Service

Credit Card Authentication

International Reply Coupon Service

International Business Reply Mail Service

Money Orders

Post Office Box Service

Customized Postage

Stamp Fulfillment Services

Negotiated Service Agreements*

Domestic*

PHI Acquisitions, Inc. Negotiated Service Agreement

International*

Inbound Market Dominant Multi-Service Agreements with Foreign Postal Operators 1

Inbound Market Dominant Exprés Service Agreement 1

Nonpostal Services*

Alliances with the Private Sector to Defray Cost of Key Postal Functions

Philatelic Sales

Market Tests*

Part B—Competitive Products

2000 Competitive Product List

Domestic Products*

Priority Mail Express

Priority Mail

Parcel Select

Parcel Return Service

First-Class Package Service

Retail Ground

International Products*

Outbound International Expedited Services

Inbound Parcel Post (at UPU rates)

Outbound Priority Mail International

International Priority Airmail (IPA)

International Surface Air List (ISAL)

International Direct Sacks—M-Bags

Outbound Single-Piece First-Class Package International Service

Negotiated Service Agreements*

Domestic*

Priority Mail Express Contract 8

Priority Mail Express Contract 11

Priority Mail Express Contract 13

Priority Mail Express Contract 14

Priority Mail Express Contract 15

Priority Mail Express Contract 16

Priority Mail Express Contract 17

Priority Mail Express Contract 18

Priority Mail Express Contract 19

Priority Mail Express Contract 20

Priority Mail Express Contract 21

Priority Mail Express Contract 22

Priority Mail Express Contract 23

Priority Mail Express Contract 24

Priority Mail Express Contract 25

Priority Mail Express Contract 26

Priority Mail Express Contract 27

Priority Mail Express Contract 28

Priority Mail Express Contract 29

Priority Mail Express Contract 30

Parcel Return Service Contract 5

Parcel Return Service Contract 6

Parcel Return Service Contract 7

Parcel Return Service Contract 8

Parcel Return Service Contract 9

Parcel Return Service Contract 10

Priority Mail Contract 24

Priority Mail Contract 29

Priority Mail Contract 33

Priority Mail Contract 44

Priority Mail Contract 48

Priority Mail Contract 50

Priority Mail Contract 51

Priority Mail Contract 52

Priority Mail Contract 53

Priority Mail Contract 54

Priority Mail Contract 55

Priority Mail Contract 56

Priority Mail Contract 57

Priority Mail Contract 58

Priority Mail Contract 59

Priority Mail Contract 60

Priority Mail Contract 61

Priority Mail Contract 62

Priority Mail Contract 63

Priority Mail Contract 64

Priority Mail Contract 65

Priority Mail Contract 66

Priority Mail Contract 67

Priority Mail Contract 70

Priority Mail Contract 71

Priority Mail Contract 72

Priority Mail Contract 73

Priority Mail Contract 74

Priority Mail Contract 75

Priority Mail Contract 76

Priority Mail Contract 77

Priority Mail Contract 78

Priority Mail Contract 79

Priority Mail Contract 80

Priority Mail Contract 81

Priority Mail Contract 82

Priority Mail Contract 83

Priority Mail Contract 84

Priority Mail Contract 85

Priority Mail Contract 86

Priority Mail Contract 87

Priority Mail Contract 88

Priority Mail Contract 89

Priority Mail Contract 90

Priority Mail Contract 91

Priority Mail Contract 92

Priority Mail Contract 93

Priority Mail Contract 94

Priority Mail Contract 95

Priority Mail Contract 96

Priority Mail Contract 97

Priority Mail Contract 98

Priority Mail Contract 99

Priority Mail Contract 100

Priority Mail Contract 101

Priority Mail Contract 102

Priority Mail Contract 103

Priority Mail Contract 104

Priority Mail Contract 105

Priority Mail Contract 106

Priority Mail Contract 107

Priority Mail Contract 108

Priority Mail Contract 109

Priority Mail Contract 110

Priority Mail Contract 111

Priority Mail Contract 112

Priority Mail Contract 113

Priority Mail Contract 114

Priority Mail Contract 115

Priority Mail Contract 116

Priority Mail Contract 117

Priority Mail Contract 118

Priority Mail Contract 119

Priority Mail Contract 120

Priority Mail Contract 121

Priority Mail Contract 122

Priority Mail Contract 123

Priority Mail Contract 124

Priority Mail Contract 125

Priority Mail Contract 126

Priority Mail Contract 127

Priority Mail Contract 128

Priority Mail Contract 129

Priority Mail Contract 130

Priority Mail Contract 131

Priority Mail Contract 132

Priority Mail Contract 133

Priority Mail Contract 134

Priority Mail Contract 135

Priority Mail Contract 136

Priority Mail Contract 137

Priority Mail Contract 138

Priority Mail Contract 139

Priority Mail Contract 140

Priority Mail Contract 141

Priority Mail Contract 142

Priority Mail Contract 143

Priority Mail Contract 144

Priority Mail Contract 145

Priority Mail Contract 146

Priority Mail Contract 147

Priority Mail Contract 148

Priority Mail Contract 149

Priority Mail Contract 150

Priority Mail Contract 151

Priority Mail Contract 152

Priority Mail Contract 153

Priority Mail Contract 154

Priority Mail Contract 155

Priority Mail Contract 156

Priority Mail Contract 157

Priority Mail Contract 158

Priority Mail Contract 159

Priority Mail Contract 160

Priority Mail Contract 161

Priority Mail Contract 162

Priority Mail Contract 163

Priority Mail Contract 164

Priority Mail Express & Priority Mail Contract 10

Priority Mail Express & Priority Mail Contract 11

Priority Mail Express & Priority Mail Contract 12

Priority Mail Express & Priority Mail Contract 13

Priority Mail Express & Priority Mail Contract 14

Priority Mail Express & Priority Mail Contract 16

Priority Mail Express & Priority Mail Contract 17

Priority Mail Express & Priority Mail Contract 18

Priority Mail Express & Priority Mail Contract 19

Priority Mail Express & Priority Mail Contract 20

Priority Mail Express & Priority Mail Contract 21

Priority Mail Express & Priority Mail Contract 22

Priority Mail Express & Priority Mail Contract 23

Priority Mail Express & Priority Mail Contract 24

Priority Mail Express & Priority Mail Contract 25

Parcel Select & Parcel Return Service Contract 3

Parcel Select & Parcel Return Service Contract 5

Parcel Select Contract 2

Parcel Select Contract 5

Parcel Select Contract 7

Parcel Select Contract 8

Parcel Select Contract 9

Parcel Select Contract 10

Parcel Select Contract 11

Parcel Select Contract 12

Priority Mail—Non-Published Rates

Priority Mail—Non-Published Rates 1

First-Class Package Service Contract 35

First-Class Package Service Contract 36

First-Class Package Service Contract 37

First-Class Package Service Contract 38

First-Class Package Service Contract 39

Priority Mail Express, Priority Mail & First-Class Package Service Contract 2

Priority Mail Express, Priority Mail & First-Class Package Service Contract 3

Priority Mail Express, Priority Mail & First-Class Package Service Contract 4

Priority Mail Express, Priority Mail & First-Class Package Service Contract 5

Priority Mail Express, Priority Mail & First-Class Package Service Contract 6

Priority Mail & First-Class Package Service Contract 2

Priority Mail & First-Class Package Service Contract 3

Priority Mail & First-Class Package Service Contract 4

Priority Mail & First-Class Package Service Contract 5

Priority Mail & First-Class Package Service Contract 6

Priority Mail & First-Class Package Service Contract 7

Priority Mail & First-Class Package Service Contract 8

Priority Mail & First-Class Package Service Contract 9

Outbound International*

Global Expedited Package Services (GEPS) Contracts GEPS 3

Global Bulk Economy (GBE) Contracts

Global Plus Contracts

Global Plus 1C

Global Plus 2C

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Priority Mail International Regional Rate Boxes—Non-Published Rates

Outbound Competitive International Merchandise Return Service Agreement with Royal Mail Group, Ltd.

Priority Mail International Regional Rate Boxes Contracts

Priority Mail International Regional Rate Boxes Contracts 1

Competitive International Merchandise Return Service Agreements with Foreign Postal Operators

Inbound International*

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators 1

Special Services*

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services*

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests*

International Merchandise Return Service (IMRS)—Non-Published Rates

Customized Delivery

Stacy L. Ruble,
Secretary.

[FR Doc. 2016-01947 Filed 2-2-16; 8:45 am]

BILLING CODE 7710-FW-P